DEPARTMENT OF TRANSPORTATION

Federal Transit Administration

Notice of Meeting of the Transit Advisory Committee for Safety (TRACS)

AGENCY: Federal Transit Administration, DOT.

ACTION: Notice of public meeting.

SUMMARY: This notice announces a meeting of the Transit Advisory Committee for Safety (TRACS).

DATES: The meeting will be held on February 25, 2020, from 8:00 a.m. to 4:30 p.m., and February 26, 2020, from 8:00 a.m. to 2:00 p.m., Eastern Standard Time (EST).

Requests to attend the meeting must be received by February 18, 2020. Requests for disability accommodations must be received by February 18, 2020. Vendors may request to present information to the committee on emerging technology and innovations in the transit safety focus areas of employee safety reporting, roadway worker protection, and suicide and trespass prevention. Each vendor presentation will be limited to 10 minutes or less. Requests to verbally address the committee during the meeting must be submitted along with a written copy of the remarks to DOT by February 20, 2020. Requests to submit written materials to be reviewed during the meeting must be received no later than February 14, 2020.

ADDRESSES: The meeting will be held at the National Highway Institute (NHI), 1310 North Courthouse Road, Arlington, Virginia, 22201. Any committee related requests should be sent by email to TRACS@dot.gov. A copy of the meeting minutes will be available on the TRACS web page at https://www.transit.dot.gov/regulations-and-guidance/safety/transit-advisory-committee-safety-tracs. The detailed agenda will be posted on the TRACS web page at https://www.transit.dot.gov/regulations-and-guidance/safety/transit-advisory-committee-safety-tracs one week in advance of the meeting.

FOR FURTHER INFORMATION CONTACT: Henrika Buchanan, TRACS Designated Federal Officer, Associate Administrator, FTA Office of Transit Safety and Oversight, (202) 366-1783, Henrika.Buchanan@dot.gov; or Kara Waldrup, Program Analyst, FTA Office of Transit Safety and Oversight, (202) 366-7273, Kara.Waldrup@dot.gov; or TRACS@dot.gov.

SUPPLEMENTARY INFORMATION:

I. Background

The Secretary of Transportation created TRACS in accordance with the Federal Advisory Committee Act (FACA) (Pub. L. 92-463, 5 U.S.C. App. 2) to provide information, advice, and recommendations to the Secretary and FTA Administrator on matters relating to the safety of public transportation systems.

II. Agenda

• Welcome Remarks/Introductions

• Facility Use/Safety Briefing

• Review of TRACS Tasks and Work Plan

• Safety Focus Area Presentations and Discussion Groups

• Future TRACS Activities

• Public Comments

• Summary of Deliverables and Concluding Remarks

III. Public Participation

The meeting will be open to the public on a first-come, first served basis, as space is limited. Members of the public who wish to attend in-person are asked to register via email by submitting their name and affiliation to the email address listed in the ADDRESSES section. The U.S. Department of Transportation is committed to providing equal access to this meeting for all participants. If you need alternative formats or services because of a disability, such as sign language, interpretation, or other ancillary aids, please contact the person listed in the ADDRESSES section.

There will be a total of 60 minutes allotted for oral comments from members of the public at the meeting. To accommodate as many speakers as possible, the time for each commenter may be limited. Individuals wishing to reserve speaking time during the meeting must submit a request at the time of registration, to include the individual's name, address, and organizational affiliation to the person listed in the ADDRESSES section.

Written comments for consideration by TRACS during the meeting must be submitted no later than the deadline listed in the DATES section, to ensure transmission to TRACS members prior to the meeting. Comments received after that date will be distributed to the members but may not be reviewed prior to the meeting.

Issued in Washington, DC.
K. Jane Williams,
Acting Administrator.

[FR Doc. 2020-02800 Filed 2-11-20; 8:45 am]

BILLING CODE P